DEPARTMENT OF COMMERCE

National Oceanic and Atmospheric Administration

[RTID 0648-XE721]

Marine Mammals; File No. 28894

AGENCY: National Marine Fisheries Service (NMFS), National Oceanic and Atmospheric Administration (NOAA), Commerce.

ACTION: Notice; receipt of application.

SUMMARY: Notice is hereby given that Charted Marine Consulting, 536 Fairfax Ave., Norfolk, VA 23507 (Responsible Party: Kristi Fazioli), has applied in due form for a permit to conduct research on bottlenose dolphins (Tursiops truncatus).

DATES: Written comments must be received on or before April 28, 2025.

ADDRESSES: The application and related documents are available for review by selecting “Records Open for Public Comment” from the “Features” box on the Applications and Permits for Protected Species home page, https://apps.nmfs.noaa.gov, and then selecting File No. 28894 from the list of available applications. These documents are also available upon written request via email to NMFS.Pr1Comments@noaa.gov.

Written comments on this application should be submitted via email to NMFS.Pr1Comments@noaa.gov. Please include File No. 28894 in the subject line of the email comment.

Those individuals requesting a public hearing should submit a written request via email to NMFS.Pr1Comments@noaa.gov. The request should set forth the specific reasons why a hearing on this application would be appropriate.

FOR FURTHER INFORMATION CONTACT: Amy Hapeman or Shannon Bent, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to conduct research on bottlenose dolphins in the bays, sounds, estuaries, and near-shore coastal waters of Texas in the northwestern Gulf of America. The purpose of the research is to: (1) develop and maintain photo-identification catalogs; (2) characterize fine-scale population structure and dynamics; (3) establish baseline patterns of distribution, habitat use, health, and survival; (4) evaluate dolphin behavior in relation to anthropogenic activities; and (5) identify potential risks to the population. Researchers would take up to 8,670 dolphins annually during vessel surveys for counts, photo-identification, behavioral observation and passive acoustic recordings. A subset of animals would also be biopsy sampled or observed for photogrammetry and blow sampling via an unmanned aircraft system. Up to 50 non-target cetaceans may be unintentionally harassed during surveys and/or approached annually for counts and behavioral observation. The permit would be valid for 10 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 25, 2025.
Julia M. Harrison,
Chief, Permits and Conservation Division, Office of Protected Resources, National Marine Fisheries Service.

[FR Doc. 2025-05390 Filed 3-27-25; 8:45 am]

BILLING CODE 3510-22-P